Proclamation 8196 of October 31, 2007

National American Indian Heritage Month, 2007

By the President of the United States of America

A Proclamation

National American Indian Heritage Month is an opportunity to honor the many contributions of American Indians and Alaska Natives and to recognize the strong and living traditions of the first people to call our land home.

American Indians and Alaska Natives continue to shape our Nation by preserving the heritage of their ancestors and by contributing to the rich diversity that is our country's strength. Their dedicated efforts to honor their proud heritage have helped others gain a deeper understanding of the vibrant and ancient customs of the Native American community. We also express our gratitude to the American Indians and Alaska Natives who serve in our Nation's military and work to extend the blessings of liberty around the world.

My Administration is committed to supporting the American Indian and Alaska Native cultures. In June, I signed the “Native American Home Ownership Opportunity Act of 2007,” which reauthorizes the Indian Housing Loan Guarantee Program, guaranteeing loans for home improvements and expanding home ownership for Native American families. Working with tribal governments, we will strive for greater security, healthier lifestyles, better schools, and new economic opportunities for American Indians and Alaska Natives.

During National American Indian Heritage Month, we underscore our commitment to working with tribes on a government-to-government basis and to supporting tribal sovereignty and self-determination. During this month, I also encourage Federal agencies to continue their work with tribal governments to ensure sound cooperation. Efforts such as on-line training programs will improve interagency collaboration in the Federal Indian Affairs community and help to strengthen relationships with tribes, building a brighter future for all our citizens.

NOW, THEREFORE, I, GEORGE W. BUSH, President of the United States of America, by virtue of the authority vested in me by the Constitution and laws of the United States, do hereby proclaim November 2007 as National American Indian Heritage Month. I call upon all Americans to commemorate this month with appropriate programs and activities.

IN WITNESS WHEREOF, I have hereunto set my hand this thirty-first day of October, in the year of our Lord two thousand seven, and of the Independence of the United States of America the two hundred and thirty-second.

[FR Doc. 07-5509

Filed 11-1-07; 9:38 am]

Billing code 3195-01-P